DEPARTMENT OF THE INTERIOR

Bureau of Land Management

[19X L1109AF LLUTY00000 L17110000.DQ0000 LX.SS.J0650000]

Notice of Public Meeting for the Bears Ears National Monument Advisory Committee, Utah

AGENCY: Bureau of Land Management, Interior.

ACTION: Notice of public meeting.

SUMMARY: In accordance with the Federal Land Policy and Management Act and the Federal Advisory Committee Act, the U.S. Department of Agriculture, U.S. Forest Service and the U.S. Department of the Interior, Bureau of Land Management's (BLM) Bears Ears National Monument Advisory Committee (BENM-MAC) will meet as indicated below.

DATES: The BENM-MAC will hold a public meeting on June 5-6, 2019. The meeting will be held on June 5, 2019 from 1:00 p.m. to 5:00 p.m. and continue on June 6, 2019 from 8:00 a.m. to 12:00 p.m.

ADDRESSES: The meeting will be held at the Hideout Community Center, 648 South Hideout Way, Monticello, Utah 84535. Written comments to address the BENM-MAC may be sent to the BLM Canyon Country District, 82 East Dogwood, Moab, Utah 84532, or via email with the subject line “BENM-MAC” to blm_ut_mt_mail@blm.gov. Written comments must be received by Friday, May 31, 2019 to be considered by BENM-MAC members in their first meeting.

FOR FURTHER INFORMATION CONTACT: Lisa Bryant, Public Affairs Specialist, BLM Canyon Country District, 82 East Dogwood, Moab, Utah 84532; phone 435-259-2187; or by email at lmbryant@blm.gov. Persons who use a telecommunications device for the deaf (TDD) may call the Federal Relay Service (FRS) at 1-800-877-8339 to leave a message or question for the above individual. The FRS is available 24 hours a day, seven days a week. Replies are provided during normal business hours.

SUPPLEMENTARY INFORMATION: The 15-member Committee will provide information and advice regarding the development of the Monument Management Plan. Agenda topics will include welcoming new committee members, reviewing the charter, providing an overview to, and soliciting information and advice from, the BENM-MAC regarding the development of the Draft Monument Management Plans and Draft Environmental Impact Statement for the Shash Jáa and Indian Creek Units of the Bears Ears National Monument. BENM-MAC members will also select a person to serve as chair. The final agenda will be posted online at https://www.blm.gov/get-involved/resource-advisory-council/near-me/utah/mac.

The meeting is open to the public; however, transportation, lodging, and meals are the responsibility of the participating individuals. There will be an opportunity for public comment during the meeting. Depending on the number of people who wish to speak and the time available, the time for individual comments may be limited. Written comments may also be sent to the BLM Canyon Country District at the address listed in the ADDRESSES section of this notice. All comments received will be provided to the BENM-MAC for their consideration and posted on Committee's website.

Before including your address, phone number, email address, or other personal identifying information in your comment, you should be aware that your entire comment—including your personal identifying information—may be made publicly available at any time. While you can ask in your comment that the BLM withhold your personal identifying information from public review, the BLM cannot guarantee that it will be able to do so.

Detailed meeting minutes for the BENM-MAC meetings will be maintained in the BLM Canyon Country District and will be available for public inspection and reproduction during regular business hours within thirty (30) days following the meeting.

Authority: 43 CFR 1784.4-2.

Anita Bilbao,
Associate State Director.

[FR Doc. 2019-09125 Filed 5-2-19; 8:45 am]

BILLING CODE 4310-DQ-P